DEPARTMENT OF HEALTH AND HUMAN SERVICES

Centers for Disease Control and Prevention

Embargo on Importation of Dracaena Shipments in Standing Water

AGENCY: Centers for Disease Control and Prevention (CDC), HHS.

ACTION: Notice of embargo on importation of Dracaena shipments in standing water.

SUMMARY: Shipments of Dracaena (“lucky bamboo”) in standing water and infested with mosquitoes are currently being imported into the United States. Because of potential public health threats posed by exotic species of mosquitoes, CDC is implementing an immediate embargo on the importation of Dracaena that has been shipped in standing water. This embargo only affects importation of Dracaena shipments in standing water.

FOR FURTHER INFORMATION CONTACT: Dr. David Kim, Centers for Disease Control and Prevention, 1600 Clifton Road, NE., National Center for Infectious Diseases, Division of Global Migration and Quarantine, Mailstop E-03, Atlanta, Georgia, 30333; (404) 498-1600; E-mail ddk5@cdc.gov.

SUPPLEMENTARY INFORMATION:

Background

On June 14, 2001, the Centers for Disease Control and Prevention (CDC), was notified by the Los Angeles district office of the U.S. Department of Agriculture (USDA) that it had identified maritime cargo containers of “lucky bamboo” (Dracaena species), an ornamental plant, that were infested with mosquitoes. CDC subsequently identified the Asian tiger mosquito, Aedes albopictus, a species previously not seen in California, and other species of mosquitoes associated with these cargo containers. The Dracaena in the infested cargo containers was shipped in small boxes with two to three inches of standing water. Shipments of Dracaena with no standing water or associated mosquito infestation have been arriving in the United States from China, Taiwan, Thailand, Indonesia, Malaysia, Costa Rica and other countries as air and maritime cargo for at least 3 years.

Public Health Risks

Dracaena shipments in standing water appears to pose a considerable risk of importing exotic mosquitoes into the United States. Although previously introduced and widely established in the eastern half of the United States, Aedes albopictus has not established a population in California. Aedes albopictus is capable of transmitting serious human diseases such as western equine encephalitis, St. Louis encephalitis, and dengue viruses. Introduction of new Aedes albopictus populations from China, Taiwan, Indonesia, and other countries might include genotypes that are more efficient vectors of human diseases than the genotypes that are currently present in the United States. There have been precedents of accidental introduction of mosquito species of public health importance into the United States by a similar mechanism, i.e., by importation of materials containing standing water.

Immediate Action

Introductions of exotic species of mosquitoes, such as Aedes albopictus in California and other species in different parts of the United States, through the importation of Dracaena shipments in standing water, pose potentially serious public health threats. Accordingly, pursuant to 42 CFR 71.32(c), CDC is implementing an embargo on the importation of Dracaena shipments in standing water, effective immediately. This embargo only affects importation of Dracaena shipments in standing water.

Dated: July 3, 2001.
Joseph R. Carter,
Associate Director for Management and Operations, Centers for Disease Control and Prevention.

[FR Doc. 01-17152 Filed 7-9-01; 8:45 am]

BILLING CODE 4163-18-P